DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of June 2003.

In order for an affirmative determination to be made and a certification of eligibility to apply for worker adjustment assistance to be issued, each of the group eligibility requirements of Section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

None

In the following case, the investigation revealed that the criteria for eligibility have not been met for the reasons specified.

The investigation revealed that criterion (a)(2)(A)(I.C.) (Increased imports) and (a)(2)(B)(II.B) (No shift in production to a foreign country) have not been met.

TA-W-51,786; Seaway Pattern Manufacturing, Inc., Toledo, OH

TA-W-51,847; Morgan Lumber, Inc., Bingham, ME

TA-W-51,584; General Electric Power Systems, a wholly-owned subsidiary of General Electric Company, Bangor, ME

TA-W-51,659; Brookline, Inc., Charlotte, NC

TA-W-51,760; Satelite Technology Management, a/k/a STM Wireless, Inc., Irvine, CA

TA-W-51,777; Cambridge Metal and Plastics, Cambridge, MN

The workers firm does not produce an article as required for certification under Section 222 of the Trade Act of 1974.

TA-W-51,341; Washington Group International, Inc., Niagara Engineering and Design Group, Niagara Falls, NY

TA-W-50,835; Agilent Technologies, Manufacturing Test Business Unit, Electronic Manufacturing Test Div., Loveland, CO

TA-W-51,954; Facility Pro, Allentown, PA

TA-W-51,548; Cypress Semiconductor Design Center, Colorado Springs, CO

TA-W-51,677; McKittrick and Associates, Inc., Charlotte, NC

TA-W-51,678; D and W International, Inc., Charlotte, NC

TA-W-51,746; Motorola, Inc., Ocotillo Facility, Chandler, AZ

TA-W-51,897; Yellow Book USA, Effingham, IL

TA-W-51,921; Nortel Networks, Inc., Department JC 50, Research Triangle Park, NC

TA-W-52,035; Ingram Micro, Inc., Williamsville, NY

The investigation revealed that criterion (a)(2)(A)(I.A) (no employment declines) have not been met.

TA-W-51,976; State of Alaska Commercial Fisheries Entry Commission Permit #S04T646970, Naknek, AK

TA-W-52,064; Fishing Vessel (F/V) Tuckahoe, Ward Cove, AK

The investigation revealed that criteria (a)(2)(A)(I.B) (Sales or production, or both, did not decline) and (II.B) (has shifted production to a country not under the free trade agreement with the U.S) have not been met.

TA-W-51,757; Coherent, Inc., Laser Measurement Control Business Unit, Auburn, CA

The investigation revealed that criteria (a)(2)(A)(I.C) (increased imports) and (a)(2)(B)(II.C) (has shifted production to a country not under the free trade agreement with U.S) have not been met.

TA-W-51,802; Lucent Technologies, Research and Development Div., “SDHLR Team” Only, Columbus, OH

The investigation revealed that criteria (2) has not been met. The workers firm (or subdivision) is not a supplier or downstream producer to trade-affected companies.

TA-W-51,825; Ultra Precision, Inc., Freeport, PA

Affirmative Determinations for Worker Adjustment Assistance

The following certifications have been issued; the date following the company name and location of each determination references the impact date for all workers of such determination.

The following certifications have been issued. The requirements of (a)(2)(A) (increased imports) of section 222 have been met.

TA-W-51,514; Crown Pacific, including temporary workers of Express Personnel, Prineville, OR: April 15, 2002.

TA-W-51,826; Schweiger, Div. of K.C.S., Jefferson, WI: May 19, 2002.

TA-W-51,972; Ken-Marc Sales Corp., Maspeth, NY: June 5, 2002.

TA-W-52,004; Golden Casting Corp., Columbus, IN: May 22, 2002.

TA-W-50,764; Permagrain Production, Inc., Karthaus, PA: January 30, 2002.

TA-W-51,283; Premier Industries, Inc., Insulfoam Div., The Dalles, OR: March 21, 2002.

TA-W-51,477; Farley's and Sathers Candy Co., Inc., Pittston, PA: April 9, 2002.

TA-W-51,566; Silver Bay Logging, Inc., Wrangell, AK: April 22, 2002.

TA-W-51,698; C and B, LLC, Tennille, GA: May 7, 2002.

TA-W-51,726; Columbia Falls Aluminum Co., a wholly-owned subsidiary of Glencore, Limited, Columbia Falls, MT: May 8, 2002.

TA-W-51,793; Commerce Engineering and Pattern Co., Walled Lake, MI: May 1, 2002.

TA-W-51,794; Progress Pattern Corp., Livonia, MI: May 1, 2002.

TA-W-51,814; Nexfor Fraser Paper, subsidiary of Nexfor, Inc., Madawanka, ME: May 13, 2002.

TA-W-51,869; Curtis Papers, Inc., Milford, NJ: May 19, 2002.

TA-W-51,909 & A, B & C; Inman Mills, Mountain Shoals Plant, Enoree, SC, Ramey Plant, Enoree, SC, Saybrook Plant, Inman, SC, Corp. Office, Inman, SC: May 18, 2003.

TA-W-51,940; Broyhill Furniture Industries, Inc., Rutherfordton Case Goods Plant, a wholly owned subsidiary of Furniture Brands International, Inc., Rutherfordton, NC: May 27, 2002.

TA-W-51,997; A. Schulman, Inc., Orange, TX: June 2, 2002.

The following certifications have been issued. The requirements of (a)(2)(B) (shift in production) of Section 222 have been met.

TA-W-51,965; Copperweld Corporation, Birmingham Div., Birmingham, AL: May 28, 2002.

TA-W-51,510; Dana Corp., Traction and Technologies Group, Fort Wayne, IN: April 10, 2002.

TA-W-51,843; Mercury Minnesota, Inc., Faribault, MN: May 14, 2002.

TA-W-51,880; Infocus Corp., formerly Infocus Systems, Inc., Wilsonville, OR: May 8, 2002.

TA-W-51,898; MRC Bearings, a div. of SKF USA, Inc., Jamestown/Falconer, NY: May 21, 2002.

TA-W-51,912; Tecumseh Products Co., Grafton Operations, Grafton, WI: May 28, 2002.

TA-W-51,967; Reading Anthracite Co., Pottsville, PA: May 29, 2002.

TA-W-52,001; Risdon-AMS USA, Inc., a wholly-owned subsidiary of Crown Holdings, Laconia, NH: June 10, 2002.

TA-W-52,008; Electronic Product Integration Corp., Norwalk, OH: May 16, 2002.

TA-W-52,061; Fishing Vessel (F/V) Alta E, Point Baker, AK: May 6, 2002.

The following certification has been issued. The requirement of upstream supplier to a trade certified primary firm has been met.

TA-W-52,012; State of Alaska Commercial Fisheries Entry Commission Permit #S04T59899, Bristol Bay, AK: June 6, 2002.

The following certification has been issued. The requirement of downstream finisher to a trade certified primary firm has been met.

TA-W-51,571; Shoals Graphics and Apparel, Inc., Florence, AL: April 14, 2002.

I hereby certify that the aforementioned determinations were issued during the months of June 2003. Copies of these determinations are available for inspection in Room C-5311, U.S. Department of Labor, 200 Constitution Avenue, NW., Washington, DC 20210 during normal business hours or will be mailed to persons who write to the above address.

Dated: June 27, 2003.
Timothy Sullivan,
Director, Division of Trade Adjustment Assistance.

[FR Doc. 03-17456 Filed 7-9-03; 8:45 am]

BILLING CODE 4510-30-P